CONSUMER PRODUCT SAFETY COMMISSION

16 CFR Part 1250

[CPSC Docket No. CPSC-2024-0023]

Notice of Proposed Rulemaking: Safety Standard for Toys: Requirements for Toys Containing Button Cell or Coin Cell Batteries; Extension of Comment Period

AGENCY: Consumer Product Safety Commission.

ACTION: Proposed rule; extension of comment period.

SUMMARY: On August 13, 2024, the Consumer Product Safety Commission (CPSC) published in the Federal Register a notice of proposed rulemaking (NPR) to address the risks of death and injury associated with children ingesting button cell or coin cell batteries obtained from toys by adding performance and labeling requirements for battery-operated toys containing such batteries. The NPR invited the public to submit written comments during a 60-day comment period ending on October 15, 2024. Due to delay in releasing incident data supporting the NPR, the Commission is extending the comment period for this NPR by 30 days.

DATES: The comment period for the proposed rule published, August 13, 2024, at 89 FR 65791, is extended. Submit comments by November 14, 2024.

ADDRESSES: Submit comments, identified by Docket No. CPSC-2024-0023, by any of the following methods:

Electronic Submissions: Submit electronic comments to the Federal eRulemaking Portal at: https://www.regulations.gov. Follow the instructions for submitting comments. CPSC typically does not accept comments submitted by email, except through www.regulations.gov. CPSC encourages you to submit electronic comments by using the Federal eRulemaking Portal, as described above.

Mail/Hand Delivery/Courier/Confidential Written Submissions: Submit comments by mail, hand delivery, or courier to: Office of the Secretary, Consumer Product Safety Commission, 4330 East-West Highway, Bethesda, MD 20814; (301) 504-7479. If you wish to submit confidential business information, trade secret information, or other sensitive or protected information that you do not want to be available to the public, you may submit such comments by mail, hand delivery, or courier, or you may email them to: cpsc-os@cpsc.gov.

Instructions: All submissions must include the agency name and docket number. CPSC may post all comments without change, including any personal identifiers, contact information, or other personal information provided, to https://www.regulations.gov. Do not submit through this website: Confidential business information, trade secret information, or other sensitive or protected information that you do not want to be available to the public. If you wish to submit such information, please submit it according to the instructions for mail/hand delivery/courier/confidential written submissions.

Docket: For access to the docket to read background documents or comments received, go to: https://www.regulations.gov, and insert the docket number, CPSC-2024-0023, into the “Search” box, and follow the prompts.

FOR FURTHER INFORMATION CONTACT: Benjamin Mordecai, Project Manager, Division of Mechanical Engineering, Directorate for Laboratory Sciences, Consumer Product Safety Commission, 5 Research Place, Rockville, MD 20850; Telephone 301-987-2506; email: bmordecai@cpsc.gov.

SUPPLEMENTARY INFORMATION:

A. Background

Pursuant to section 106 of the Consumer Product Safety Improvement Act of 2008 (15 U.S.C. 2056b(a)), the Commission is required to promulgate toy safety standards that are more stringent than the applicable voluntary standard—ASTM F963, Standard Consumer Safety Specification for Toy Safety—if the Commission determines that more stringent requirements would further reduce the risk of injury associated with the product, as well as to periodically review and revise the rules set forth under section 106 to ensure that such rules provide the highest level of safety for such products that is feasible. 15 U.S.C. 2056b(c) and (d).

Accordingly, on August 13, 2024, the Commission published an NPR in the Federal Register proposing to establish a safety standard for toys containing button cell or coin cell batteries by amending the requirements in part 1250 specific to battery compartments for toys containing button cell or coin cell batteries. The amendments would align the requirements more closely with the Commission's new rule for consumer products containing button cell or coin batteries, codified at part 1263, and provide the highest level of safety that is feasible (89 FR 65791). In the August 13 notice, the Commission provided a 60-day comment period closing on October 15, 2024.

B. Comment Period Extension

Section III.D of the NPR states that CPSC would make available for review and comment, to the extent allowed by applicable law, the underlying incident data associated with the proposed rule. This data was to be made available upon publication of the NPR in the Federal Register on August 13, 2024. However, release of the underlying data was delayed until September 10, 2024. The Commission therefore is extending the comment period by 30 days, until November 14, 2024, so that the public has ample time to review and comment on the data.

Alberta E. Mills,
Secretary, Consumer Product Safety Commission.

[FR Doc. 2024-22063 Filed 9-27-24; 8:45 am]

BILLING CODE 6355-01-P